COMMITTEE FOR THE IMPLEMENTATION OF TEXTILE AGREEMENTS

Denial of Commercial Availability Request under the African Growth and Opportunity Act (AGOA), the United States-Caribbean Basin Trade Partnership Act (CBTPA), and the Andean Trade Promotion and Drug Eradication Act (ATPDEA)

May 6, 2004.

AGENCY: The Committee for the Implementation of Textile Agreements (CITA).

ACTION: Denial of the request alleging that certain cotton corduroy fabric for use in apparel articles cannot be supplied by the domestic industry in commercial quantities in a timely manner under the AGOA, the CBTPA, and the ATPDEA.

SUMMARY: On March 5, 2004, the Chairman of CITA received a request from S. Schwab Company Inc. alleging that smooth, round cut 10-wale per inch (4-wale per centimeter) 100% cotton corduroy fabric classified in subheading 5801.22.90 of the Harmonized Tariff Schedule of the United States (HTSUS), cannot be supplied by the domestic industry in commercial quantities in a timely manner. It requested that apparel articles of such fabrics be eligible for preferential treatment under the ATPDEA, the AGOA and the CBTPA.

FOR FURTHER INFORMATION CONTACT: Anna Flaaten, International Trade Specialist, Office of Textiles and Apparel, U.S. Department of Commerce, (202) 482-3400.

SUPPLEMENTARY INFORMATION:

Authority: Section 112(b)(5)(B) of the AGOA; Section 213(b)(2)(A)(v)(II) of the Caribbean Basin Economic Recovery Act, as added by Section 211(a) of the CBTPA; Sections 1 and 6 of Executive Order No. 13191 of January 17, 2001; Presidential Proclamations 7350 and 7351 of October 4, 2000; Section 204 (b)(3)(B)(ii) of the ATPDEA, Presidential Proclamation 7616 of October 31, 2002, Executive Order 13277 of November 19, 2002, and the United States Trade Representative's Notice of Further Assignment of Functions of November 25, 2002.

Background

The AGOA, the CBTPA, and the ATPDEA provide for quota- and duty-free treatment for qualifying textile and apparel products. Such treatment is generally limited to products manufactured from yarns and fabrics formed in the United States or a beneficiary country. The AGOA, the CBTPA, and the ATPDEA also provide for quota- and duty-free treatment for apparel articles that are both cut (or knit-to-shape) and sewn or otherwise assembled in one or more beneficiary countries from fabric or yarn that is not formed in the United States, if it has been determined that such fabric or yarn cannot be supplied by the domestic industry in commercial quantities in a timely manner. In Executive Order No. 13191 (66 FR 7271) and pursuant to Executive Order No. 13277 (67 FR 70305) and the United States Trade Representative's Notice of Redelegation of Authority and Further Assignment of Functions (67 FR 71606), CITA has been delegated the authority to determine whether yarns or fabrics cannot be supplied by the domestic industry in commercial quantities in a timely manner under the AGOA, the CBTPA, or the ATPDEA. On March 6, 2001, CITA published procedures that it will follow in considering requests (66 FR 13502).

On March 5, 2004, the Chairman of CITA received a request from S. Schwab Company Inc. alleging that smooth, round cut 10-wale per inch (4-wale per centimeter) 100% cotton corduroy fabric classified in subheading 5801.22.90 of the HTSUS, cannot be supplied by the domestic industry in commercial quantities in a timely manner. It requests that apparel articles of such fabrics be eligible for preferential treatment under the ATPDEA, the AGOA and the CBTPA.

On March 11, 2004, CITA published a Federal Register notice requesting public comments on the request, particularly with respect to whether these fabrics can be supplied by the domestic industry in commercial quantities in a timely manner (69 FR 11595). On March 29, 2004, CITA and the Office of the U.S. Trade Representative offered to hold consultations with the relevant Congressional committees. CITA also requested the advice of the U.S. International Trade Commission and the relevant Industry Sector Advisory Committees.

Based on the information provided, including review of the request, public comment and advice received, and its knowledge of the industry, CITA has determined that smooth, round cut 10-wale per inch (4-wale per centimeter) 100% cotton corduroy fabric classified in subheading 5801.22.90 of the HTSUS, can be supplied by the domestic industry in commercial quantities in a timely manner. The request is denied.

James C. Leonard III,
Chairman, Committee for the Implementation of Textile Agreements.

[FR Doc. 04-10673 Filed 5-10-04; 8:45 am]

BILLING CODE 3510-DR-S